FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Systemic Risk Report (FR Y-15; OMB No. 7100-0352).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements, and approved collection of information instrument(s) are available at https://www.reginfo.gov/public/do/PRAMain. These documents are also available on the Federal Reserve Board's public website at https://www.federalreserve.gov/apps/reportforms/review.aspx or may be requested from the agency clearance officer, whose name appears above.

Final Approval Under OMB Delegated Authority of the Extension for Three Years, Without Revision, of the Following Information Collection

Collection title: Systemic Risk Report.

Collection identifier: FR Y-15.

OMB control number: 7100-0352.

Frequency: Quarterly.

Respondents: The FR Y-15 panel is comprised of top-tier U.S. bank holding companies (BHCs) and covered savings and loan holding companies (SLHCs) with $100 billion or more in total consolidated assets,¹ foreign banking organizations (FBOs) with $100 billion or more in total combined U.S. assets, and any U.S. BHC designated as a global systemically important bank (GSIB) based on its method 1 score calculated under 12 CFR 217.404 as of December 31 of the previous calendar year.²

¹ Covered SLHCs are those that are not substantially engaged in insurance or commercial activities. See 12 CFR 217.2.

² See 12 CFR 217.402.

Estimated number of respondents: 52.

Estimated average hours per response: Reporting, 404; Recordkeeping, 1.

Estimated annual burden hours: Reporting, 84,032; Recordkeeping, 208.

General description of collection: The FR Y-15 quarterly report collects systemic risk data from the respondents listed above. The Board uses the FR Y-15 data to monitor, on an ongoing basis, the systemic risk profile of certain financial institutions that are subject to enhanced prudential standards under section 165 of the Dodd-Frank Wall Street Reform and Consumer Protection Act (Dodd-Frank Act).³ In addition, the FR Y-15 is used to (i) facilitate the implementation of the surcharge for GSIBs, (ii) identify other financial institutions which may present significant systemic risk, and (iii) analyze the systemic risk implications of proposed mergers and acquisitions.

³ Public Law 111-203 (2010); 12 U.S.C. 5365.

Legal authorization and confidentiality: Sections 163 and 165 of the Dodd-Frank Act, as amended by the Economic Growth, Regulatory Relief, and Consumer Protection Act, authorize the Board to consider risk to U.S. financial stability in regulating and examining BHCs with $100 billion or more in consolidated assets and nonbank financial companies that are under the Board's supervision.⁴ The Board is further authorized to impose prudential standards for such entities and to differentiate among companies on an individual basis or by category, taking into consideration their capital structure, complexity, financial activities, size, and any other risk-related factors that the Board deems appropriate.⁵ This authorization also covers certain foreign banks with U.S. operations under the International Banking Act (IBA).⁶ Sections 165(b)(1)(B) and 165(f) of the Dodd-Frank Act authorize the Board to establish enhanced public disclosures for companies subject to prudential standards under section 165.⁷

⁴ 12 U.S.C. 5363; 5365.

⁵ 12 U.S.C. 5365(a)(2)(C). The Board is required to establish prudential standards for BHCs with assets equal to or greater than $250 billion and nonbank financial companies supervised by the Board that (A) are more stringent than the standards and requirements applicable to nonbank financial companies and bank holding companies that do not present similar risks to the financial stability of the United States; and (B) increase in stringency based on the considerations enumerated in section 165(b)(3). 12 U.S.C. 5365(a)(1).

⁶ 12 U.S.C. 3106(a). Section 8(a)provides that certain foreign banks with U.S. operations will be treated as BHCs for purposes of the Bank Holding Company Act (BHC Act), and sections 163 and 165 of the Dodd-Frank Act amend the BHC Act.

⁷ 12 U.S.C. 5365(b)(1)(B) and (f).

In addition, the reporting requirements associated with the FR Y-15 are authorized for BHCs pursuant to section 5 of the BHC Act; ⁸ for SLHCs pursuant to sections 10(b)(2) and 10(g) of the Home Owners' Loan Act; ⁹ and for IHCs pursuant to section 5 of the BHC Act and sections 8(a) and 13(a) of the IBA.¹⁰

⁸ 12 U.S.C. 1844.

⁹ 12 U.S.C. 1467a(b)(2); 1467a(g).

¹⁰ 12 U.S.C. 3106(a); 3108(a).

The FR Y-15 report is mandatory. Most information provided on the FR Y-15 is made public unless a reporting entity submits a specific request for confidentiality, either on the FR Y-15 or on the form from which the data item is obtained.¹¹ Such information may be kept confidential under exemption 4 of the Freedom of Information Act (FOIA) if the submitter substantiates that it is confidential commercial or financial information that is both customarily and actually treated as private.¹² In addition, items 1 through 4 of Schedule G, which contain sensitive information regarding the reporting entity's liquidity position, may be accorded confidential treatment under exemption 4 until the first reporting date after the final liquidity coverage ratio disclosure standard has been implemented. Information collected on the FR Y-15 may also be considered confidential under FOIA exemption 8 if it is obtained as part of an examination or supervision of a financial institution.¹³

¹¹ Several data items in the FR Y-15 are retrieved from the FR Y-9C and other items may be retrieved from the FFIEC 101. Confidential treatment will also extend to any automatically calculated items on the FR Y-15 that have been derived from confidential data items and that, if released, would reveal the underlying confidential data.

¹² 5 U.S.C. 552(b)(4).

¹³ 5 U.S.C. 552(b)(8).

Current actions: On July 6, 2022, the Board published a notice in the Federal Register (87 FR 40235) requesting public comment for 60 days on the extension, without revision, of the FR Y-15. The comment period for this notice expired on September 6, 2022. The Board did not receive any comments.

Board of Governors of the Federal Reserve System, November 17, 2022.
Michele Taylor Fennell,
Deputy Associate Secretary of the Board.

[FR Doc. 2022-25494 Filed 11-22-22; 8:45 am]

BILLING CODE 6210-01-P